DEPARTMENT OF TRANSPORTATION

National Highway Traffic Safety Administration

[Docket No. NHTSA-2015-0127; Notice 1]

Graco Children's Products, Inc., Receipt of Petition for Decision of Inconsequential Noncompliance

AGENCY: National Highway Traffic Safety Administration (NHTSA), Department of Transportation (DOT).

ACTION: Receipt of petition.

SUMMARY: Graco Children's Products, Inc. (Graco), has determined that certain Graco Milestone child restraints manufactured between July 9, 2015 and October 6, 2015, do not fully comply with paragraph S5.5.2(g)(1)(ii) of Federal Motor Vehicle Safety Standard (FMVSS) No. 213, Child Restraint Systems. Graco filed a report pursuant to 49 CFR part 573, Defect and Noncompliance Responsibility and Reports. Graco then petitioned NHTSA under 49 CFR part 556 requesting a decision that the subject noncompliance is inconsequential to motor vehicle safety.

DATES: The closing date for comments on the petition is March 18, 2016.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated above will be filed and will be considered. All comments and supporting materials received after the closing date will also be filed and will be considered to the extent possible. When the petition is granted or denied, notice of the decision will be published in the Federal Register pursuant to the authority indicated below.

SUPPLEMENTARY INFORMATION:

I. Overview: Pursuant to 49 U.S.C. 30118(d) and 30120(h) (see implementing rule at 49 CFR part 556), Graco submitted a petition for an exemption from the notification and remedy requirements of 49 U.S.C. Chapter 301 on the basis that this noncompliance is inconsequential to motor vehicle safety.

This notice of receipt of Graco's petition is published under 49 U.S.C. 30118 and 30120 and does not represent any agency decision or other exercise of judgment concerning the merits of the petition.

II. Child Restraints Involved: Affected are approximately 8,240 Graco Milestone child restraints manufactured between July 9, 2015 and October 2, 2015.

III. Noncompliance: Graco explains that the noncompliance is due to a labeling issue. The labels on the subject child restraints do not contain the phrase “Secure this child restraint with the vehicle's child restraint anchorage system,if available, or with a vehicle belt” as required by paragraph S5.5.2(g)(1)(ii) of FMVSS No. 213.

IV. Rule Text: Paragraph S5.5.2(g)(1)(ii) of FMVSS No. 213 requires in pertinent part:

S5.5.2 The information specified in paragraphs (a) through (m) of this section shall be stated in the English language and lettered in letters and numbers that are not smaller than 10 point type. Unless otherwise specified, the information shall be labeled on a white background with black text. Unless written in all capitals, the information shall be stated in sentence capitalization. . . .

(g) The statements specified in paragraphs (1) and (2):

(1) A heading as specified in S5.5.2(k)(3)(i), with the statement “WARNING! DEATH or SERIOUS INJURY can occur,” capitalized as written and followed by bulleted statements in the following order: . . .

(ii) Secure this child restraint with the vehicle's child restraint anchorage system if available or with a vehicle belt. [For car beds, harnesses, and belt positioning boosters, the first part of the statement regarding attachment by the child restraint attachment by the child restraint anchorage system is optional]. . . .

V. Summary of Graco's Analyses: Graco stated its belief that the subject noncompliance is inconsequential to motor vehicle safety for the following reasons:

(1) Graco stated that the noncompliant label provides visual pictograms showing the rear-facing child restraint being secured using the child restraint anchorage system and using a vehicle belt (both with a lap only seat belt and lap/shoulder seat belt). This pictogram is located on the same label just below where the omitted phrase is required to be, and provides the same substance as the language required by FMVSS No. 213.

(2) Graco also stated that in addition to the pictograms that describe how to secure the child restraint in the vehicle using the child restraint anchorage system and the vehicle belt, the printed instruction manual provided with the subject child restraints includes written step-by-step installation procedures. The manual also describes why and how to secure the child restraint in rear-facing and forward-facing modes using the child restraint anchorage system as well as the vehicle seat belt systems. The instruction manual additionally includes multiple prominently placed safety warning regarding the need to secure the child restraint with the child restraint anchorage system or the vehicle seat belt.

(3) Graco stated its belief that the consumers generally understanding that child restraints must be installed/secured a vehicle's seat to be effective. Graco also stated its belief that with respect to labels and instructions, consumers are often drawn first to illustrations and pictograms.

(4) Graco also stated its belief that the absence of the omitted phrase from the label does not affect the crashworthiness of the child restraint system.

Graco has additionally informed NHTSA that it has corrected the noncompliance so that future production of the subject child restraints will comply with all applicable labeling requirements of FMVSS No. 213.

In summation, Graco believes that the described noncompliance of the subject child restraints is inconsequential to motor vehicle safety, and that its petition, to exempt Graco from providing recall notification of the noncompliance as required by 49 U.S.C. 30118 and remedying the noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject child restraints that Graco no longer controlled at the time it determined that the noncompliance existed. However, any decision on this petition does not relieve equipment distributors and dealers of the prohibitions on the sale, offer for sale, or introduction or delivery for introduction into interstate commerce of the noncompliant child restraints under their control after Graco notified them that the subject noncompliance existed.

Authority: 49 U.S.C. 30118, 30120: delegations of authority at 49 CFR 1.95 and 501.8.

Jeffrey M. Giuseppe,
Director, Office of Vehicle Safety Compliance.

[FR Doc. 2016-03202 Filed 2-16-16; 8:45 am]

BILLING CODE 4910-59-P